SECURITIES AND EXCHANGE COMMISSION

[Release No. 34-81687]

Public Availability of the Securities and Exchange Commission's FY 2015 Service Contract Inventory

AGENCY: Securities and Exchange Commission.

ACTION: Notice.

SUMMARY: In accordance with Section 743 of Division C of the Consolidated Appropriations Act of 2010, SEC is publishing this notice to advise the public of the availability of the FY2016 Service Contract Inventory (SCI) and the FY2015 SCI Analysis. The SCI provides information on FY2016 actions over $25,000 for service contracts. The inventory organizes the information by function to show how SEC distributes contracted resources throughout the agency. SEC developed the inventory per the guidance issued on November 5, 2011 by the Office of Management and Budget's Office of Federal Procurement Policy (OFPP). OFPP's guidance is available at http://www.whitehouse.gov/sites/default/files/omb/procurement/memo/service-contract-inventories-guidance-11052010.pdf.

The Service Contract Inventory Analysis for FY2015 provides information based on the FY 2015 Inventory. Please note that the SEC's FY 2016 Service Contract Inventory data is now included in government-wide inventory available on www.acquisition.gov. The government-wide inventory can be filtered to display the inventory data for the SEC. The SEC has posted its plan for analyzing FY 2016 data, a link to the FY 2016 government-wide Service Contract Inventory and the FY 2015 SCI Analysis on the SEC's homepage at http://www.sec.gov/about/secreports.shtml and http://www.sec.gov/open.

FOR FURTHER INFORMATION CONTACT: Direct questions regarding the service contract inventory to Vance Cathell, Director Office of Acquisitions (202) 551-8385 or CathellV@sec.gov.

Dated: September 22, 2017.
Brent J. Fields,
Secretary.

[FR Doc. 2017-20879 Filed 9-28-17; 8:45 am]

BILLING CODE 8011-01-P